DEPARTMENT OF ENERGY

Federal Energy Regulatory Commission

[Project No. 663-071]

Puerto Rico Electric Power Authority; Notice of Application Accepted for Filing, Soliciting Comments, Protests and Motions To Intervene

Take notice that the following hydroelectric application has been filed with the Commission and is available for public inspection:

a. Type of Proceeding: Extension of License Term.

b. Project No.: P-663-071.

c. Date Filed: July 1, 2019.

d. Licensee: Puerto Rico Electric Power Authority.

e. Name and Location of Project: Rio Blanco Hydroelectric Project, located on the Rio Blanco, in the municipality of Naguabo, Puerto Rico.

f. Filed Pursuant to: Federal Power Act, 16 U.S.C. 791a-825r.

g. Licensee Contact Information: Ms. Indira Mohip Colon, Manager, Projects and Environmental Licensing Department, Ave. Ponce de León, Pda. 17.5, Edificio NEOS, Piso 707, Bo. Santurce, Municipio de San Juan, San Juan, PR 00936-4267, Phone: (787) 521-4968, Email: INDIRA.MOHIP@prepa.com.

h. FERC Contact: Mr. Ashish Desai, (202) 502-8370, Ashish.Desai@ferc.gov.

i. Deadline for filing comments, motions to intervene and protests, is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-663-071.

j. Description of Proceeding: The Puerto Rico Electric Power Authority, licensee for the Rio Blanco Project requests to extend the current 30-year license term for the project by eight years, from August 19, 2021 to August 19, 2029. The licensee filed a Notice of Intent and Pre-application Document for a new license on August 16, 2016 and would be required to file a Final License Application (FLA) for a new license by August 19, 2019, two years prior to license expiration.

The Rio Blanco Project was rendered inoperable in September 2017 after Hurricanes Irma and Maria caused extensive damage to project facilities, including the powerhouse structure, switchyard, access roads, and penstock. The licensee is currently working with the Federal Emergency Management Agency (FEMA) to obtain funds to rehabilitate the project. The licensee requests the eight-year extension to complete FEMA requirements to obtain funding, complete restoration of the project, and plan and complete relicensing studies to prepare a FLA to file with the Commission by August 19, 2027.

k. This notice is available for review and reproduction at the Commission in the Public Reference Room, Room 2A, 888 First Street NE, Washington, DC 20426. The filing may also be viewed on the Commission's website at http://www.ferc.gov/docs-filing/elibrary.asp. Enter the Docket number (P-663-071) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the request to extend the license term. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 8, 2019.
Nathaniel J. Davis, Sr.,
Deputy Secretary.

[FR Doc. 2019-14836 Filed 7-11-19; 8:45 am]

BILLING CODE 6717-01-P